DEPARTMENT OF COMMERCE

National Oceanic and Atmospheric Administration

RIN 0648-XD867

General Advisory Committee and Scientific Advisory Subcommittee to the U.S. Section to the Inter-American Tropical Tuna Commission; Meeting Announcement

AGENCY: National Marine Fisheries Service (NMFS), National Oceanic and Atmospheric Administration (NOAA), Commerce.

ACTION: Notice of public meeting.

SUMMARY: NMFS announces a public meeting of the Scientific Advisory Subcommittee (SAS) to the U.S. Section to the Inter-American Tropical Tuna Commission (IATTC) on June 2, 2015, and a meeting of the General Advisory Committee (GAC) to the U.S. Section to the IATTC on June 3, 2015. The meeting topics are described under the SUPPLEMENTARY INFORMATION section of this notice.

DATES: The meeting of the SAS will be held on June 2, 2015, from 11 a.m. to 5 p.m. PDT (or until business is concluded). The meeting of the GAC will be held on June 3, 2015, from 8:30 a.m. to 5 p.m. PDT (or until business is concluded).

ADDRESSES: Both meetings will be held in the Pacific Conference Room (Room 300) at NMFS, Southwest Fisheries Science Center, 8901 La Jolla Shores Drive, La Jolla, California 92037-1508. Please notify Taylor Debevec if you plan to attend either meeting. The meetings will be accessible by webinar—instructions will be emailed to meeting participants.

FOR FURTHER INFORMATION CONTACT: Taylor Debevec, West Coast Region, NMFS, at Taylor.Debevec@noaa.gov, or at (562) 980-4066.

SUPPLEMENTARY INFORMATION:

In accordance with the Tuna Conventions Act, 16 U.S.C. 953, the U.S. Department of State has appointed a General Advisory Committee (GAC) and a Scientific Advisory Subcommittee (SAS) to the U.S. Section to the IATTC. The U.S. Section consists of four U.S. Commissioners to the IATTC and a representative of the Deputy Assistant Secretary of State for Oceans and Fisheries. The GAC and SAS support the U.S. Section to the IATTC in an advisory capacity; in particular, they provide advice on the development of U.S. policies and positions. NMFS West Coast Region provides administrative support for the GAC and SAS in cooperation with the U.S. Department of State. The meetings of the GAC and SAS are open to the public. The time and manner of public comment will be at the discretion of the chairs for the GAC and SAS.

The 89th meeting of the IATTC, the 31st Meeting of the Parties to the Agreement on the International Dolphin Conservation Program (AIDCP), as well as working group meetings for both the AIDCP and IATTC will be held in Guayaquil, Ecuador, from June 22 to July 3, 2015. For more information on these meeting, please visit the IATTC's Web site: https://www.iattc.org/MeetingsENG.htm.

SAS and GAC Meeting Topics

The SAS meeting topics will include, but are not limited to, the following:

(1) Outcomes of the 2015 Scientific Advisory Committee (SAC) to the IATTC (e.g., stock status updates for tuna, tuna-like species, and other species caught in association with those fisheries in the eastern Pacific Ocean);

(2) Issues related to the impact of fishing on non-target species, such as shark, seabirds, sea turtles;

(3) Evaluation of the IATTC staff's recommended conservation measures for 2015;

(4) U.S. proposals for the 89th meeting of the IATTC, and proposals from other IATTC members; and

(5) Other issues as they arise.

The GAC meeting topics will include, but are not limited to, the following:

(1) Outcomes of the 2015 SAC to the IATTC (e.g., stock status updates for tuna, tuna-like species, and other species caught in association with those fisheries in the eastern Pacific Ocean);

(2) Recent U.S. regulations that could affect tuna and tuna-like fisheries in the eastern Pacific Ocean;

(3) The status of U.S legislation to implement the Antigua Convention;

(4) Input from the SAS;

(5) Formulation of advice on issues that may arise at the upcoming 89th meeting of the IATTC, including: IATTC staff's recommended conservation measures, U.S. proposals, and proposals from other IATTC members; and

(6) Other issues as they arise.

Special Accommodations

The meeting location is physically accessible to people with disabilities. Requests for sign language interpretation or other auxiliary aids should be directed to Taylor Debevec (see FOR FURTHER INFORMATION CONTACT) by May 18, 2015.

Authority: 16 U.S.C. 951 et seq.

Dated: April 13, 2015.
Alan D. Risenhoover,
Director, Office of Sustainable Fisheries, National Marine Fisheries Service.

[FR Doc. 2015-08734 Filed 4-15-15; 8:45 am]

BILLING CODE 3510-22-P